DEPARTMENT OF DEFENSE

Department of the Army, Corps of Engineers

Intent To Prepare a Draft Beaver Lake Master Plan and Shoreline Management Plan and Environmental Assessment To Investigate Potential Significant Impacts, Either Positive or Negative, to Beaver Lake's Authorized Purposes of Flood Risk Management, Hydropower, Water Supply, Recreation, and Fish and Wildlife

AGENCY: Department of the Army, U.S. Army Corps of Engineers, DOD.

ACTION: Notice of intent.

SUMMARY: The Draft Environmental Assessment (EA) is being prepared pursuant to the National Environmental Policy Act (NEPA), Council on Environmental Quality (CEQ) regulations (40 CFR, 1500-1517), and the U.S. Army Corps of Engineers (USACE) implementing regulation, Policy and Procedures for Implementing NEPA, Engineer Regulation (ER) 200-2-2 (1988). The study is being conducted in accordance with the requirements of 36 CFR 327.30, dated July 27, 1990 and ER 1130-2-406, dated October 31, 1990. The EA will evaluate potential impacts (beneficial and adverse) to socioeconomic conditions, cultural and ecological resources, recreation, aesthetics, infrastructure, lake water quality, terrestrial and aquatic fish and wildlife habitats, federally-listed threatened and endangered species, and cumulative impacts associated with past, current, and reasonably foreseeable future actions at Beaver Lake.

Following the public scoping period and after consideration of all comments received during scoping, USACE will prepare a Draft EA. The Draft EA will be made available for public review and comment. Based on the EA analysis, USACE will either issue a Finding of No Significant Impact or announce its intent to prepare an environmental impact statement (EIS). If USACE determines that an EIS is needed, either during preparation of the EA or after completing the EA, USACE will issue in the Federal Register a Notice of Intent (NOI) to prepare an EIS. In that case, the current scoping process would serve as the scoping process that normally would follow an NOI to prepare an EIS. USACE would not solicit additional scoping comments but would consider any comments on the scope of the EA received during this scoping process in preparing the EIS.

ADDRESSES: Submit written comments to Mr. Craig Hilburn, Chief of Environmental Branch, U.S. Army Corps of Engineers, Planning and Environmental Division, Environmental Branch, Little Rock District, P.O. Box 867, Little Rock, AR 72203-0867. Comments will be accepted through April 5, 2016.

FOR FURTHER INFORMATION CONTACT: For questions or comments regarding the Draft Beaver Lake Master Plan and Shoreline Management Plan EA, please contact Mr. Craig Hilburn, (501) 324-5735 or email: David.C.Hilburn@usace.army.mil.

SUPPLEMENTARY INFORMATION: 1. Beaver Lake: Beaver Lake is a multiple purpose water resource development project primarily for flood risk management, municipal and industrial water supply, and hydropower generation. Additional purposes include water recreation, and fish and wildlife management, to the extent that those additional purposes do not adversely affect flood risk management, power generation, or other authorized purposes of the project (Flood Control Act of 1944 as amended in 1946, 1954, 1958, 1962, 1965 and 1968 and the Water Resources Act of 1992). Beaver Lake is a major component of a comprehensive plan for water resource development in the White River Basin of Missouri and Arkansas. Additional beneficial uses include increased power output of downstream power stations resulting from the regulated flow from the Beaver Lake project.

2. Study Location: The Beaver Lake Civil Works project on the White River is situated in northwest Arkansas (Benton, Carroll, Madison, and Washington counties). The total area contained in the Beaver project, including both land and water surface, consists of 38,138 acres, including 1,432 acres in flowage easement. The region is characterized by plateaus, ridges, and valleys featuring oak-hickory forests with scattered shortleaf pine. When the lake is at the top of the conservation pool, the water area comprises 28,252 acres and 473 miles of shoreline within fee. The shoreline is irregular with topography ranging from steep bluffs to gentle slopes.

3. Study History: The Beaver Lake Master Plan was originally approved December 13, 1963. An updated Master Plan was approved in October 1969. There have been 23 supplements to this plan, all of which are incorporated into the current Master Plan, approved in April 1976. The Beaver Lake Shoreline Management Plan was first approved in October 1975 and revised to the currently approved plan in April 2008. Updates to these plans are necessary due to several factors, including updates in Corps policies/regulations, current and projected future demands on fixed resources, and increases in environmental and management issues that have created sustainability concerns.

4. Scoping/Public Involvement. Public meetings will be held at the following locations and times: Tuesday, March 15, 2016, 4-7 p.m., Hilton Garden Inn—Fayetteville, 1325 North Palak Drive, Fayetteville, AR; Wednesday March 16, 2016, 4-7 p.m., Best Western Inn of the Ozarks Conference Center, 207 W. Van Buren, Eureka Springs, AR; Thursday March 17, 2016, 4-7 p.m., Four Points by Sheraton Bentonville, 211 SE Walton Boulevard, Bentonville, AR.

The Public Scoping process provides information about the study to the public, serves as a mechanism to solicit agency and public input on alternatives and issues of concern, and ensures full and open participation in Scoping and review of the Draft EA. Comments received as a result of this notice, public meetings, and news releases will be used to assist the preparers in identifying potential impacts to the quality of the human or natural environment. The Corps invites other Federal agencies, Native American Tribes, State and local agencies and officials, private organizations, and interested individuals to participate in the Scoping process by forwarding written comments to (see ADDRESSES). Interested parties may also request to be included on the mailing list for public distribution of announcements and documents.

5. Issues/Alternatives: The EA will evaluate effects from a range of alternatives developed to address potential environmental concerns of the area. Anticipated issues to be addressed in the EA include impacts on: (1) Hydropower, (2) flooding, (3) recreation, (4) water supply, (5) fish and wildlife resources and habitats, and (6), other impacts identified by the public, agencies or USACE studies.

Courtney W. Paul,
Colonel, U.S. Army, District Engineer.

[FR Doc. 2016-04736 Filed 3-2-16; 8:45 am]

BILLING CODE 3720-58-P